NATIONAL FOUNDATION ON THE ARTS AND THE HUMANITIES

Federal Council on the Arts and the Humanities

Arts and Artifacts Indemnity Panel Advisory Committee

AGENCY: National Endowment for the Humanities

ACTION: Notice of charter renewal for Arts and Artifacts Indemnity Panel advisory committee.

SUMMARY: Pursuant to the Federal Advisory Committee Act and its implementing regulations, the Federal Council on the Arts and the Humanities (the Council) gives notice that the Charter for the Arts and Artifacts Indemnity Panel advisory committee was renewed for an additional two-year period on November 19, 2021. The Council determined that renewing the advisory committee is in the public interest in connection with the duties imposed on the Council by the Arts and Artifacts Indemnity Act, as amended.

FOR FURTHER INFORMATION CONTACT: Elizabeth Voyatzis, Committee Management Officer, 400 Seventh Street SW, Washington, DC 20506. Telephone: (202) 606-8322, facsimile (202) 606-8600, or email at gencounsel@neh.gov. Hearing-impaired individuals are advised that information on this matter may be obtained by contacting the National Endowment for the Humanities' TDD terminal at (202) 606-8282.

Dated: November 19, 2021.
Samuel Roth,
Attorney-Advisor, National Endowment for the Humanities.

[FR Doc. 2021-25653 Filed 11-23-21; 8:45 am]

BILLING CODE 7536-01-P